DEPARTMENT OF THE INTERIOR

National Park Service

Transportation Plan, Termination of the Environmental Impact Statement, Arches National Park, UT

AGENCY: National Park Service, Department of the Interior.

ACTION: Notice of termination of the Environmental Impact Statement for the Transportation Plan, Arches National Park.

SUMMARY: In a Notice of Intent published May 7, 2003 (68 FR 24501), the National Park Service (NPS) announced its intent to prepare an Environmental Impact Statement (EIS) for the Transportation Plan at Arches National Park. The NPS has since determined that it is appropriate at this time to prepare an Environmental Assessment (EA), rather than an EIS, for the Transportation Plan.

SUPPLEMENTARY INFORMATION: The NPS had begun working on the EIS following publication of the Notice of Intent after preliminary analysis of the plan alternatives revealed there could be potential for significant impacts. Based on the potential costs of the plan, the NPS Washington Office of Alternative Transportation Planning Program Management requested a much smaller scale “Transportation Implementation Plan”. This plan would include only those transportation strategies that could be implemented within a 5 to 6 year timeframe. Based on these changes and preliminary analysis of impacts of the new strategies, the NPS has determined that it is appropriate at this time to prepare an EA.

DATES: The EA will be distributed for public comment in winter 2005/spring 2006 when it is ready for public review. The NPS will notify the public by mail, website, and other means and will include where or how to obtain a copy of the EA, how to comment on the EA, and the length of the public comment period.

FOR FURTHER INFORMATION CONTACT: Laura Joss, Superintendent, Arches National Park, PO Box 907, Moab, UT 84532-0907; Tel: (435) 719-2201; FAX (435) 719-2305; e-mail: laura_joss@nps.gov.

Dated: November 1, 2005.
Kate Cannon,
Acting Deputy Director, Intermountain Region.

[FR Doc. E5-7267 Filed 12-12-05; 8:45 am]

BILLING CODE 4312-06-P